DEPARTMENT OF COMMERCE

National Oceanic and Atmospheric Administration

RIN 0648-XD377

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a meeting of the Red Snapper Advisory Panel.

DATES: The meeting will be held from 8:30 a.m. until 5 p.m. on Wednesday, July 30, 2014.

ADDRESSES: The meeting will be held at the Council's office.

Council address: Gulf of Mexico Fishery Management Council, 2203 North Lois Avenue, Suite 1100, Tampa, FL 33607.

FOR FURTHER INFORMATION CONTACT: Mr. Steven Atran, Senior Fishery Biologist, Gulf of Mexico Fishery Management Council; telephone: (813) 348-1630; fax: (813) 348-1711; email: steven.atran@gulfcouncil.org.

SUPPLEMENTARY INFORMATION: The items of discussion on the agenda are as follows:

1. Adoption of Agenda

2. Action Guide

3. Election of Chair and Vice-chair

4. Approval of January 13, 2012 minutes

5. Recreational Red Snapper Management Feedback

a. Mississippi Recreational Summit Meeting

b. Louisiana Recreational Fishing Survey

6. Red Snapper Recreational Accountability Measures

7. Amendment 40—Recreational Red Snapper Sector Separation Public Hearing Draft

8. Review of New State Data Collection Programs

9. Update on Headboat Collaborative Program

10. Other Business

For meeting materials see folder “Red Snapper AP meeting—2014-07” on Gulf Council file server. To access the file server, the URL is https://public.gulfcouncil.org:5001/webman/index.cgi, or go to the Council's Web site and click on the FTP link in the lower left of the Council Web site (http://www.gulfcouncil.org). The username and password are both “gulfguest”. The name of the folder on the FTP server is “Red Snapper AP meeting—2014-07”.

The Agenda is subject to change. The latest version will be posted in the “Red Snapper AP meeting—2014-07” folder on the Council's file server. The meeting will be Web cast over the Internet. A link to the Web cast will be available on the Council's Web site, http://www.gulfcouncil.org.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: July 9, 2014.
Tracey L. Thompson,
Acting Deputy Director, Office of Sustainable Fisheries, National Marine Fisheries Service.

[FR Doc. 2014-16402 Filed 7-11-14; 8:45 am]

BILLING CODE 3510-22-P